DEPARTMENT OF AGRICULTURE

Animal and Plant Health Inspection Service

[Docket No. APHIS-2017-0025]

Availability of a Final Environmental Assessment and Finding of No Significant Impact for a Release of Three Parasitoids for Biological Control of the Lily Leaf Beetle

AGENCY: Animal and Plant Health Inspection Service, USDA.

ACTION: Notice of availability.

SUMMARY: We are advising the public that an environmental assessment and finding of no significant impact have been prepared by the Animal and Plant Health Inspection Service relative to the release of three parasitoids, Diaparsis jucunda, Lemophagus errabundus, and Tetrastichus setifer, for the biological control of the lily leaf beetle in the contiguous United States. Based on its finding of no significant impact, the Animal and Plant Health Inspection Service has determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2237, email: Colin.D.Stewart@aphis.usda.gov.

SUPPLEMENTARY INFORMATION: The lily leaf beetle, Lilioceris lilii (Coleptera:Chrysomelidae), an aggressive pest of lilies and fritillaries, has expanded its range rapidly over the past decade, and is now found in several northeastern and central States, across Canada, and in Washington State. Further expansion is expected based on its historical distribution in nearly all of Europe and parts of North Africa. The Washington State Department of Agriculture is proposing to release three insect parasitoid species for the biological control of the lily leaf beetle; none of these species have been previously released or established in Washington State. The Animal and Plant Health Inspection Service (APHIS) is proposing to issue permits for the field release of the parasitoids Diaparsis jucunda, Lemophagus errabundus, and Tetrastichus setifer into the contiguous United States to reduce the severity of lily leaf beetle infestations.

On July 13, 2017, we published in the Federal Register (82 FR 32317-32318, Docket No. APHIS-2017-0025) a notice ¹ in which we announced the availability, for public review and comment, of an environmental assessment (EA) that examined the potential environmental impacts associated with the proposed release of these biological control agents into the contiguous United States.

¹ To view the notice, environmental assessment, finding of no significant impact, and the comment we received, go to https://www.regulations.gov/docket?D=APHIS-2017-0025.

We solicited comments on the EA for 30 days ending August 14, 2017. We received one comment by that date. The commenter was opposed to the release of the organism on principle, but did not raise any specific or substantive issues.

In this document, we are advising the public of our finding of no significant impact (FONSI) regarding the release of Diaparsis jucunda, Lemophagus errabundus, and Tetrastichus setifer into the contiguous United States for the biological control of the lily leaf beetle. The finding, which is based on the EA, reflects our determination that release of these biological control agents will not have a significant impact on the quality of the human environment.

The EA and FONSI may be viewed on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 6th day of October 2017.
Michael C. Gregoire,
Acting Administrator, Animal and Plant Health Inspection Service.

[FR Doc. 2017-22228 Filed 10-12-17; 8:45 am]

BILLING CODE 3410-34-P